DEPARTMENT OF ENERGY

Federal Energy Regulatory Commission

[Project No. 13725-000]

Natural Currents Energy Services, LLC; Notice of Preliminary Permit Application Accepted for Filing and Soliciting Comments, Motions To Intervene, and Competing Applications

May 24, 2010.

On May 6, 2010, Natural Currents Energy Services, LLC filed an application for a preliminary permit, pursuant to section 4(f) of the Federal Power Act, proposing to study the feasibility of the Highlands New Jersey Tidal Energy Project, which would be located on the Shrewsbury River, in Monmouth County, New Jersey. The sole purpose of a preliminary permit, if issued, is to grant the permit holder priority to file a license application during the permit term. A preliminary permit does not authorize the permit holder to perform any land-disturbing activities or otherwise enter upon lands or waters owned by others without the owners' express permission.

Natural Currents proposes to develop this project, in conjunction with various marinas as well as private, public and commercial properties within the project footprint, potentially including 42 South Bay Ave, LLC, Twin Lights Marina, Barhs Marina, and other property owners in the Highlands, NJ area. The purpose of this project is to install and operate in-stream tidal turbines to power the office buildings and marinas within the site. Natural Currents Red Hawk ™ Tidal In-Stream Energy Conversion (TISEC) modules would generate electricity in the free flow of the tides. The initial installations will consist of twenty in-stream 150-kilowatt (kW) turbines with an initial peak output of 3,000 kW.

Applicant Contact: Mr. Roger Bason, Natural Currents Energy Services, LLC, 24 Roxanne Boulevard, Highland, NY 12561; phone (845) 691-4009.

FERC Contact: John M. Mudre, (202) 502-8902.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13725) in the docket number field to access the document. For assistance, contact FERC Online Support.

Kimberly D. Bose,
Secretary.

[FR Doc. 2010-12994 Filed 5-28-10; 8:45 am]

BILLING CODE 6717-01-P